DEPARTMENT OF ENERGY

Proposed Agency Information Collection

AGENCY: Department of Energy.

ACTION: Notice and request for comments.

SUMMARY: The Department of Energy (DOE) invites public comment on a proposed collection of information that DOE is developing for submission to the Office of Management and Budget (OMB) pursuant to the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before August 3, 2015. If you anticipate difficulty in submitting comments within that period, contact the person listed in ADDRESSES as soon as possible.

ADDRESSES: Written comments may be emailed to: mark.friedrichs@ee.doe.gov or mailed to Mark Friedrichs, U.S. Department of Energy, EE-5B, 1000 Independence Ave. SW., Washington DC 20585 [note that the receipt of mailed comments is sometimes delayed].

FOR FURTHER INFORMATION CONTACT: Requests for additional information or copies of the information collection instrument and instructions should be emailed to: mark.friedrichs@ee.doe.gov. Requests may also be mailed to Mark Friedrichs, U.S. Department of Energy, EE-5B, 1000 Independence Ave. SW., Washington DC 20585 [note that the receipt of mailed comments is sometimes delayed]. Calls may be directed to Mark Friedrichs at (202) 586-0124.

SUPPLEMENTARY INFORMATION: This information collection request contains: (1) OMB No. New; (2) Information Collection Request Title: Surveys/Interviews to Gather Expert Opinion on the Impact of DOE/EERE Building Technologies Office Investments in HVAC, Water-Heating, and Appliance Technologies; (3) Type of Request: {New}; (4) Purpose: The information collection will characterize counterfactual patterns of technology development and diffusion in the absence of DOE investments, so that by comparing these counterfactuals with actual observations the impacts of DOE investments can be estimated; this information is needed by DOE for budget justification and strategic planning; (5) Annual Estimated Number of Respondents: 150 to 250; (6) Annual Estimated Number of Total Responses: 150-250; (7) Annual Estimated Number of Burden Hours: 250; (8) Annual Estimated Reporting and Recordkeeping Cost Burden: 0.

Statutory Authority: DOE Org Act (42 U.S.C. 7101, et seq.) and 42 U.S.C. 16191 (AMO authority).

Issued in Washington, DC on May 28, 2015.
JoAnn Milliken,
Deputy Director, Building Technologies Office, Energy Efficiency and Renewable Energy.

[FR Doc. 2015-13690 Filed 6-3-15; 8:45 am]

BILLING CODE 6450-01-P